Title 3—

The President

Proclamation 10185 of April 20, 2021

Death of Walter Mondale

By the President of the United States of America

A Proclamation

Today, our Nation mourns the loss of one of our Nation's most dedicated patriots and public servants. Walter Frederick “Fritz” Mondale served the people of Minnesota as their Attorney General from 1960-1964, as a United States Senator from 1964-1976, as Vice President of the United States from 1977-1981, and as the United States Ambassador to Japan from 1993-1996.

As Minnesota's Attorney General, he drew national attention in a landmark case before the U.S. Supreme Court that established that indigent criminal defendants have the right to legal counsel.

As a Senator, he was instrumental in the passage of The Fair Housing Act to combat racial discrimination in housing, Title IX to provide more opportunities for women, and numerous laws to protect our environment.

Walter Mondale defined the modern vice presidency, elevating the position into a true partnership with the President. As Vice President, he helped lay the groundwork for the 1978 peace treaty between Egypt and Israel, the Panama Canal Treaty, and nuclear arms negotiations with the Soviet Union.

As the 1984 Democratic nominee for President, he made history when he became the first Presidential nominee of either party to select a woman as his running mate.

In continuing his service as the United States Ambassador to Japan, he became the voice and face of America to that important ally.

For nearly 60 years he had a remarkable partnership with his wife Joan, a devoted advocate for the arts, who passed away in 2014. We mourned when he lost his daughter Eleanor in 2011 and today our Nation's sympathies lie with his sons Ted and William and his six grandchildren.

On a wall at the Carter Center in Atlanta, Georgia, there is a quote from Walter Mondale. It reads, “We told the truth. We obeyed the law. We kept the peace.” Walter Mondale did all that and more.

As a mark of respect for Walter Mondale and his life of service to our Nation, I hereby order, by the authority vested in me by the Constitution and laws of the United States of America, including section 7 of title 4, United States Code, that the flag of the United States shall be flown at half-staff at the White House and on all public buildings and grounds, at all military posts and naval stations, and on all naval vessels of the Federal Government in the District of Columbia and throughout the United States and its Territories and possessions until sunset, on the day of interment. I also direct that the flag shall be flown at half-staff for the same period at all United States embassies, legations, consular offices, and other facilities abroad, including all military facilities and naval vessels and stations.

IN WITNESS WHEREOF, I have hereunto set my hand this twentieth day of April, in the year of our Lord two thousand twenty-one, and of the Independence of the United States of America the two hundred and forty-fifth.

[FR Doc. 2021-08655

Filed 4-22-21; 8:45 am]

Billing code 3295-F1-P